DEPARTMENT OF TRANSPORTATION

National Highway Traffic Safety Administration

[Docket No. NHTSA-2002-12367; Notice 1]

Toyota Motor Corporation; Receipt of Application for Determination of Inconsequential Non-Compliance

Toyota Motor Corporation (TMC) of Toyota-cho, Aichi-ken, Japan, has applied to be exempted from the notification and remedy requirements of the 49 U.S.C. Chapter 301 “Motor Vehicle Safety” for noncompliance with Federal Motor Vehicle Safety Standard (FMVSS) No. 205 “Glazing Materials,” on the basis that the noncompliance is inconsequential to motor vehicle safety. TMC has filed a report of noncompliance pursuant to 49 CFR part 573, “Defect and Noncompliance Reports.”

This notice of receipt of the application is published under 49 U.S.C. 30118 and 30120 and does not represent any agency decision or other exercise of judgment concerning the merits of the application. See 49 U.S.C. 30118(d) and 30120(h).

TMC submitted the following information in accordance with the requirements of 49 CFR part 556, “Exemption for Inconsequential Defect or Noncompliance.”

Summary of the Petition

TMC has determined that certain 2002 model year Lexus SC430 vehicles are equipped with an airdam which fails to meet the marking requirement of FMVSS No. 205 “Glazing Materials.” Based on production records, TMC has determined the affected vehicle population includes model year 2002 Lexus SC430 vehicles produced by TMC between January 8, 2001 and May 17, 2001. The total number of vehicles potentially affected is 5,789.

Certain Lexus SC430 vehicles were equipped with an airdam, which was not marked as specified in Section 6 of ANS Z26 (incorporated by reference in FMVSS No. 205), with the “DOT” symbol and a manufacturer's code marking. According to TMC, during its design and testing process, it confirmed that the airdam meets the performance requirements of ANS Z26 for item 4 and item 5 glazing as referenced by FMVSS No. 205. They supplied two “Notice of Equipment Compliance” reports. The first one provided compliance information for the material that was used in the vehicle prior to inclusion of the marking and that expired in 1998. TMC also provided a second set of compliance information for the same material, which was used after the marking was placed on the airdam. TMC claims there is virtually no difference between the compliance data; therefore, TMC believes that there is no safety risk.

TMC maintains that, although this failure to mark constitutes a noncompliance with the marking requirements of FMVSS No. 205, it is inconsequential to motor vehicle safety and, therefore, TMC should be exempted from the notification and remedy requirements of the National Traffic and Motor Vehicle Safety Act.

Availability of the Petition and other Documents

The petition and other relevant information are available for public inspection in NHTSA Docket No. NHTSA-2002-12367. You may call the Docket at (202) 366-9324 or you may visit the Docket Management in Room PL-401, 400 Seventh Street, SW., Washington, DC 20590 (10:00 a.m. to 5:00 p.m., Monday through Friday). You may also view the petition and other relevant information on the internet. To do this, do the following:

(1) Go to the Docket Management System (DMS) web page of the Department of Transportation (http://dms.dot.gov/).

(2) On that page, click on “Simple Search.”

(3) On the next page (http://dms.dot.gov/searchform.simple.cfm/), type in the docket number “12367.” After typing the docket number, click on “Search.”

(4) On the next page, which contains docket summary information for the docket you selected, click on the desired comments. You may download the comments and other materials.

Comments

Interested persons are invited to submit written data, views and arguments on the petition of TMC described above. Comments should refer to the Docket Number and be submitted to: Docket Management, Room PL-401, 400 Seventh Street, SW., Washington, DC 20590. It is requested that two copies be submitted.

All comments received before the close of business on the closing date indicated below will be considered. The application and supporting materials, and all comments received after the closing date, will also be filed and will be considered to the extent practicable. When the application is granted or denied, the Notice will be published in the Federal Register pursuant to the authority indicated below.

Comment closing date: August 7, 2002.

(49 U.S.C. 30118, 30120; delegations of authority at 49 CFR 1.50 and 49 CFR 501.8)

Issued on: July 2, 2002.
Stephen R. Kratzke,
Associate Administrator for Safety Performance Standards.

[FR Doc. 02-17012 Filed 7-5-02; 8:45 am]

BILLING CODE 4910-59-P